FEDERAL COMMUNICATIONS COMMISSION

Public Information Collections Approved by Office of Management and Budget

February 2, 2009.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Thomas Butler, Federal Communications Commission, (202) 418-1492 or via the Internet at Thomas.butler@fcc.gov.

SUPPLEMENTARY INFORMATION: OMB Control No.: 3060-0816.

OMB Approval Date: January 30, 2009.

Expiration Date: January 31, 2010.

Title: Local Telephone Competition and Broadband Reporting (Report and Order, WC Docket No. 07-38, FCC 08-89; Order on Reconsideration, WC Docket No. 07-38, FC 08-148).

Form Number(s): FCC Form 477.

Estimated Annual Burden: 1,610 respondents; 3,220 responses; 1,085,140 total annual hours; 337 hours per response (average).

Needs and Uses: This information collection (IC) was approved by OMB as a revision. The Commission reported an increase of 956,340 hours to the total annual burden. This program change increase is due to an increase in the estimated number of respondents and responses since this IC was last submitted to the OMB in June 2008.

The Commission submitted two Orders to the OMB for approval. The first was a Report and Order and Further Notice of Proposed Rulemaking in WC Docket No. 07-38, FCC 08-89 and the second was an Order on Reconsideration in WC Docket No. 07-38, FCC 08-148. With these two Orders, the Commission revised the FCC Form 477 data collection to improve the Commission's understanding of the extent of broadband deployment, facilitating the development of appropriate broadband policies. In particular, these amendments will improve the Commission's ability to carry out its obligation under section 706 of the Telecommunications Act of 1996 to “determine whether advanced telecommunications capability is being deployed to all Americans in a reasonable and timely fashion.” The Report and Order revised the FCC Form 477 to require all broadband providers to report the number of broadband connections in service in individual Census Tracts. The Report and Order adopted three additional changes to FCC Form 477. First, it requires providers to report broadband service speed data in conjunction with subscriber counts according to new categories for download and upload speeds. These new speed tiers will better identify services that support advanced applications. Second, it amended reporting requirements for mobile wireless broadband providers to require them to report the number of subscribers whose data plans allow them to browse the Internet and access the lawful Internet content of their choice. Third, it requires providers of interconnected Voice over Internet Protocol (interconnected VoIP) service to report subscribership information on FCC Form 477.

The Order on Reconsideration amended FCC Form 477 to require filers to report the percentage of broadband connections that are residential at the Census Tract level. The Telecommunications Act of 1996 directs the Commission to take actions to open all telecommunications markets to competition and to seek to promote innovation and investment by all participants, including new entrants. A central task in creating this framework is the opening of previously monopolized local telecommunications markets. By collecting timely and reliable information about the pace and extent of competition for local telephony service in different geographic areas—including rural areas—the Commission significantly improves the ability to evaluate the effectiveness of actions the Commission and the states are taking to facilitate economic competition in those markets. The Report and Order provides for additional methods to supplement the data reported by FCC Form 477 filers, including a voluntary self-reporting system, and a recommendation to the Census Bureau that the American Community Survey questionnaire be modified to gather information about broadband availability and subscription in households. The information is used by the Commission to prepare reports that help inform consumers and policy makers at the federal and state level of the development of competition in the local telephone service market and the deployment of broadband services. The Commission will continue to use the information to better inform its understanding of broadband deployment in conjunction with its congressionally mandated section 706 reports. The Commission also uses the data to support its analyses in a variety of rulemaking proceedings under the Communications Act of 1934, as amended. Absent this information collection, the Commission would lack essential data for assisting it in determining the effectiveness of its policies and fulfilling its statutory responsibilities in accordance with the Communications Act of 1934, as amended.

Federal Communications Commission.
Marlene H. Dortch,
Secretary.

[FR Doc. E9-2575 Filed 2-6-09; 8:45 am]

BILLING CODE 6712-01-P